DEPARTMENT OF ENERGY

Federal Energy Regulatory Commission

[Docket No. RP02-309-000]

Sunoco, Inc. (R&M), Complainant, v. Transcontinental Gas Pipe Line Corporation, Respondent; Notice of Complaint

May 3, 2002.

Take notice that on May 2, 2002, pursuant to Rule 206 of the Rules of Practice and Procedure of the Federal Energy Regulatory Commission (Commission), 18 CFR 385.206, Sunoco, Inc. (R&M) (Sunoco) tendered for filing a Complaint against Transcontinental Gas Pipe Line Corporation (Transco).

Sunoco alleges that Transco has indicated its intention to terminate firm transportation service to Sunoco at certain production area receipt points in contravention of a 1992 FERC-approved settlement agreement that specifically requires Transco to provide firm transportation service at such points. Sunoco further alleges that Transco failed to provide the Commission with complete and accurate information concerning its firm service obligation to Sunoco in its abandonment application filed in Docket No. CP01-34 in which Transco requested authorization to abandon service to Sunoco at certain production area receipt points.

Sunoco requests that the Commission institute a formal investigation to scrutinize and remedy Transco's unilateral abrogation of a FERC-approved settlement agreement and related failure to disclose to the Commission all relevant facts and circumstances pertaining to its firm service obligation to Sunoco in its application seeking abandonment authorization in Docket No. CP01-34. Sunoco further requests that the Commission issue an order pursuant to Sections 5 and 16 of the Natural Gas Act requiring Transco to continue providing firm transportation service to Sunoco at all receipt points designated under its firm transportation service agreement that became effective pursuant the FERC-approved settlement agreement. Alternatively, Sunoco requests the Commission to take such action as it may deem necessary and appropriate pursuant to Sections 5 and 16 of the Natural Gas Act, to modify the settlement to restore the status quo ante and to prevent unjust enrichment to Transco by, among other things, requiring Transco to refund, with interest, take-or-pay charges paid to Transco by Sunoco pursuant to the terms of the settlement.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before May 22, 2002. Protests will be considered by the Commission in determining the appropriate action to be taken, but will not serve to make protestants parties to the proceeding. Any person wishing to become a party must file a motion to intervene. Answers to the complaint shall also be due on or before May 22, 2002. Copies of this filing are on file with the Commission and are available for public inspection. This filing may also be viewed on the Web at http://www.ferc.gov using the “RIMS” link, select “Docket#” and follow the instructions (call 202-208-2222 for assistance). Comments, protests, interventions and answers may be filed electronically via the Internet in lieu of paper. See, 18 CFR 385.2001(a)(1)(iii) and the instructions on the Commission's Web site under the “e-Filing” link.

Linwood A. Watson, Jr.,
Deputy Secretary.

[FR Doc. 02-11605 Filed 5-8-02; 8:45 am]

BILLING CODE 6717-01-P